ENVIRONMENTAL PROTECTION AGENCY

[EPA-HQ-OPPT-2019-0637; FRL-10002-09]

New Chemicals Program Implementation Under the Amended Toxic Substances Control Act (TSCA); Notice of Public Meeting

AGENCY: Environmental Protection Agency (EPA).

ACTION: Notice.

SUMMARY: On December 10, 2019, EPA's Office of Chemical Safety and Pollution Prevention (OCSPP) will hold a public meeting to engage with interested stakeholders on the implementation of EPA's TSCA New Chemicals program, including: (1) An overview of EPA's updated “Working Approach” document that builds upon EPA's November 2017 “New Chemicals Decision-Making Framework: Working Approach to Making Determinations under section 5 of TSCA”; (2) a demonstration of how EPA uses key concepts in the Working Approach to reach certain conclusions and/or make determinations under TSCA section 5(a)(3) using specific case examples; (3) an update on confidential business information (CBI) process improvements and clarifications; and (4) a discussion of EPA's ongoing efforts and progress to increase transparency. Interested stakeholders will have the opportunity at the meeting to provide their views on these topics, in addition to providing written feedback in the docket. Later in December 2019, EPA expects to announce the availability of the updated “Working Approach” document and provide opportunity for written public comment on the document. Feedback from the public meeting and comments received will help inform the Agency's ongoing efforts to improve policy and processes relating to the review of new chemicals under TSCA.

DATES: Meeting: The New Chemicals Program meeting will be held on December 10, 2019, from 10:00 a.m. to 3:00 p.m. In addition to EPA presentations on the topics described above, EPA is setting aside one hour (from 1:40 p.m. to 2:40 p.m.) for members of the public to share their views. See registration instructions below. Online requests to speak at the meeting must be received on or before December 6, 2019. On-site registration for both attendance and speaking will be permitted, but seating and speaking priority will be given to those who pre-register by the deadline.

Requests for Accommodation: To request accommodation of a disability, please contact the meeting logistics person listed under FOR FURTHER INFORMATION CONTACT, preferably at least 10 days prior to the meeting, to give EPA as much time as possible to process your request.

Comments: EPA will accept written feedback on these topics in the docket until January 24, 2020. When submitting comments to the docket, please be as specific as possible, and please include any supporting data or other information.

ADDRESSES: The meeting will be held at EPA's William Jefferson Clinton East Building, room 1153 (“the Map Room”), 1201 Constitution Avenue NW, Washington, DC 20460. The meeting will also be available by remote access for registered participants. For further information, see Unit III. under SUPPLEMENTARY INFORMATION.

Registration: To participate in the New Chemicals Program Implementation meeting on December 10, 2019 (identified by docket identification (ID) number EPA-HQ-OPPT-2019-0637), you may register online (preferred) or in person at the meeting. To register online, go to https://epa-ncrp.eventbrite.com.

Comments: Written feedback, identified by the docket ID number EPA-HQ-OPPT-2019-0637, can be submitted by one of the following methods:

• Federal eRulemaking Portal: http://www.regulations.gov. Follow the online instructions for submitting written feedback. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets in general is available at http://www.epa.gov/dockets.

FOR FURTHER INFORMATION CONTACT: For technical information about the New Chemicals Program Implementation meeting contact: Ryan Schmit, Office of Pollution Prevention and Toxics (7101M), Environmental Protection Agency, 1200 Pennsylvania Ave. NW, Washington, DC 20460-0001; telephone number: (202) 564-0610; email address: schmit.ryan@epa.gov.

For meeting logistics or registration contact: Emily Connor, Abt Associates; telephone number: (301) 347-5197; email address: emily_connor@abtassoc.com.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general and may be of interest to a wide range of stakeholders including chemical manufacturers, processors and users, consumer product companies, non-profit organizations in the environmental, public health and animal welfare sectors, state and local government agencies, and members of the public interested in the environmental and human health assessment and regulation of new chemical substances. Since others also may be interested, the Agency has not attempted to describe all the specific entities that may be affected by this action.

B. How can I get copies of this document and other related information?

The docket for the New Chemicals Program Implementation meeting (EPA-HQ-OPPT-2019-0637) is available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. Background

The Frank R. Lautenberg Chemical Safety for the 21st Century Act, amending the Toxic Substances Control Act of 1976, was signed into law on June 22, 2016. The amendments have enhanced EPA's authority to evaluate chemical substances.

Since the 2016 amendments to TSCA, EPA has been working to make the policy and process changes necessary to align the New Chemicals program with the requirements of the new law, as well as to streamline and improve the review process. In November 2017, EPA released the “New Chemicals Decision-Making Framework: Working Approach to Making Determinations under section 5 of TSCA” (the “Working Approach”) for public comment, and subsequently held a public meeting on implementing the New Chemicals program under amended TSCA on December 14, 2017.

After consideration of comments received on the 2017 version and based on additional implementation experience, EPA is updating the Working Approach. Later in December 2019, EPA will announce the availability of the updated document after the public meeting and will accept comments on the updated document. EPA expects the updated document will provide further clarity and detail on EPA's approach and practices, including: (1) EPA's general guiding principles and concepts for making determinations on new chemical notices submitted to EPA under section 5 of TSCA; (2) the decision-making logic and the key questions that EPA must address; and (3) a discussion of how EPA might apply the working approach to reach one of the five new chemical determinations allowable under the statute.

Additional information on the TSCA amendments can be found at https://www.epa.gov/assessing-and-managing-chemicals-under-tsca/frank-r-lautenberg-chemical-safety-21st-century-act.

III. Meeting

A. Remote Access

The meeting will be accessible remotely for registered participants. Registered participants will receive information on how to connect to the meeting prior to its start.

B. Public Participation at the Meeting

Members of the public may register to attend the meeting as observers and may also register to speak at the meeting, using one of the registration methods described under ADDRESSES. A registered speaker is encouraged to focus on issues directly relevant to the meeting's subject matter. Each speaker will be allowed approximately three minutes to provide oral feedback, subject to the number of confirmed registered speakers. A speaker must be registered in order to speak during the meeting. To accommodate as many registered speakers as possible, speakers may not use visual aids or written material. Persons registered to speak (as well as others) may submit written materials to the dockets as described under ADDRESSES. The meeting agenda and supporting materials will be made available in the docket and on EPA's website in advance of the meeting.

IV. How can I request to participate in these meeting?

A. Registration

To attend the meeting in person or to receive remote access, you must register online no later than December 6, 2019, using one of the methods described under ADDRESSES. While on-site registration will be available, seating will be on a first-come, first-served basis, with priority given to early registrants, until room capacity is reached. For registrants not able to attend in person, the meeting will also provide remote access capabilities; registered participants will be provided information on how to connect to the meeting prior to its start.

B. Required Registration Information

Members of the public may register to attend as observers or to speak during the scheduled public speaking period at the meeting. To register for the meeting online, you must provide your full name, organization or affiliation, and contact information.

Authority: 15 U.S.C. 2601 et seq.

Dated: November 15, 2019.
Tala Henry,
Deputy Director, Office of Pollution Prevention and Toxics.

[FR Doc. 2019-25171 Filed 11-19-19; 8:45 am]

BILLING CODE 6560-50-P